DEPARTMENT OF TRANSPORTATION

Maritime Administration

Maritime Security Training Course

AGENCY: Maritime Administration (MARAD), DOT.

ACTION: Notice of availability of maritime security training course approval program.

SUMMARY: The purpose of this notice is to announce a voluntary program for approval of maritime security training courses under the Maritime Transportation Security Act of 2002 (MTSA). Training providers wishing to receive course approval are invited to submit applications under this program, which was developed jointly by MARAD and the United States Coast Guard (USCG). Training providers—profit or non-profit—must be organized and authorized to conduct business under the Federal laws of the United States, or under the laws of any state of the United States, and they must conduct the training in the United States or aboard a United States flag vessel to be eligible for this program.

There is no cost to training providers for course approval under this program; however, the program is subject to limited funding, and fees may be required when funding is exhausted. The goal of the program is to promote high quality, uniform training of maritime security professionals. Details of the program are available on the MARAD Web site: http://www.marad.dot.gov.

DATES: Effective Date: This program is effective February 8, 2005.

FOR FURTHER INFORMATION CONTACT: Mr. Christopher E. Krusa, Office of Policy and Plans, Maritime Administration, 400 Seventh Street, SW., Washington, DC 20590-0001, (202) 366-2648, chris.krusa@marad.dot.gov. Program details are also available on the MARAD Web site: http://www://marad.dot.gov.

SUPPLEMENTARY INFORMATION: Section 109 of the Maritime Transportation Security Act of 2002 (Pub. L. 107-295) addressed the need for maritime security education and training to counter terrorist and other security threats involving the port, maritime, and intermodal transportation environment. Section 109 specifically charged the Secretary of Transportation with responsibility for fulfilling this need, requiring that “the Secretary shall develop standards and curriculum to allow for the training and certification of maritime security professionals.” The Secretary of Transportation found that MARAD had the expertise to develop and implement a program for the training and certification of maritime security professionals within its area of responsibility. Accordingly, on April 3, 2003, the Secretary delegated the Section 109 security mandate to MARAD.

At the request of the Maritime Administrator, the United States Merchant Marine Academy (USMMA) developed the required training standards and curriculum and prepared a report to Congress in May 2003. The report characterized security threats to the marine and intermodal transportation system; summarized relevant domestic legislation, international conventions, and other guidance; delineated key workforce development issues; described the project undertaken by MARAD in fulfillment of the Secretary's Section 109 responsibilities; presented the standards and curriculum developed in response to the MTSA mandate; and offered recommendations for the certification and oversight of maritime security education and training.

The standards, curriculum, and recommendations contained in the report were developed through a deliberative and collaborative process, during which MARAD proactively sought public comment and initiated interagency cooperation. Collaboration with the Coast Guard, the Transportation Security Administration (TSA), other public agencies, industry associations, and private-sector firms was pursued to ensure that the education and training guidelines developed were responsive to the needs of affected parties and incorporated the views of stakeholders to the maximum extent possible.

During development of the training guidelines, MARAD received many comments from training providers seeking a means through which to have their courses “approved,” or otherwise designated as courses that incorporate the standards and curriculum developed under MTSA. Similar requests were received from facility and vessel operators wishing to send their security personnel to “approved” courses utilizing MARAD's training standards and curriculum.

In response to these comments from training providers and facility and vessel operators, MARAD and the Coast Guard have developed an optional program for maritime security training course approval. This program is voluntary because, while there are domestic and international regulatory requirements for certain classes of personnel to receive appropriate maritime security training and/or have equivalent job experience, it is not currently mandatory for maritime security training to be approved by MARAD, the Coast Guard, or any other government agency. Nonetheless, this voluntary program is designed to align with any potential future regulatory requirements for maritime security training course approval at both the domestic and international levels.

Based upon the standards, curriculum, and recommendations contained in the report to Congress, as derived from MTSA, MARAD and the Coast Guard have identified seven discrete types of maritime security training courses as appropriate for inclusion in the program: (1) Vessel Security Officer (VSO), (2) Company Security Officer (CSO), (3) Facility Security Officer (FSO), (4) Maritime Security for Vessel Personnel with Specific Security Duties (VPSSD), (5) Maritime Security for Facility Personnel with Specific Security Duties (FPSSD), (6) Maritime Security for Military, Security, and Law Enforcement Personnel (MSLEP), and (7) Maritime Security Awareness (MSA). These are based upon the model course frameworks published in the report to Congress.

Initially, only instructor-based VSO, CSO, and FSO courses will be evaluated under this voluntary course approval program. Applications for approval of VPSSD, FPSSD, MSLEP and MSA courses—as well as for non-instructor-based VSO, CSO, and FSO courses—may be considered in subsequent stages of the program, contingent upon funding and/or on the payment of fees by training providers seeking approval for these types of courses. All terms and conditions of VPSSD, FPSSD, MSLEP, and MSA course approval—as well as for non-instructor-based VSO, CSO, and FSO course approval—will be posted on the MARAD Web site (http://www://marad.dot.gov) if/when a determination is made to evaluate these types of courses under this program. Until then, no applications for approval of VPSSD, FPSSD, MSLEP, and MSA courses or for non-instructor-based VSO, CSO, and FSO courses will be accepted.

Training providers wishing to obtain course approval for instructor-based VSO, CSO, and/or FSO courses must submit their applications electronically in strict accordance with Appendix A of the Guidelines for Maritime Security Training Course Providers, “Elements of Request for Maritime Security Training Course Approval,” published on the MARAD Web site (http://www://marad.dot.gov). These procedures include a requirement for training providers to certify that they are verifying the identity of all students. After the application materials are properly received, they will be forwarded to a Coast Guard-accepted Quality Standards System (QSS) organization, approved by the Coast Guard in accordance with Navigation and Vessel Inspection Circular (NVIC) 9-01 (November 30, 2001), for review. NVIC 9-01 is publicly available on the Internet at: http://www.uscg.mil/hq/g-/nvic/NVIC%209_01.pdf.

The QSS organization will determine the adequacy of the submitted course(s) and work with the training provider to correct any deficiencies in accordance with the Guidelines for Maritime Security Training Course Providers published on the MARAD Web site (http://www://marad.dot.gov). Training providers—profit or non-profit—must be organized and authorized to conduct business under the federal laws of the United States, or under the laws of any State of the United States, and they must conduct the training in the United States or aboard a United States flag vessel to be eligible for this program.

International Maritime Organization (IMO) model courses for Ship Security Officer (Model Course 3.19), Company Security Officer (Model Course 3.20), and Port Facility Security Officer (Model Course 3.21), respectively, will be used for evaluation of all submitted courses. The IMO model courses were developed by USMMA staff in collaboration with counterparts in India, in coordination with the U.S. Coast Guard, and are available for purchase in the U.S. through IMO-designated distributors listed on the IMO Web site at http://www.imo.org/.

The Coast Guard and MARAD will provide oversight of the QSS organization and the course approval process. For VSO courses, the QSS organization will issue approval letters and course approval certificates on behalf of the Coast Guard. For CSO and FSO courses, the QSS organization will issue approval letters and course approval certificates on behalf of MARAD. If a single course covers multiple topics that would separately be approved on behalf of the Coast Guard or MARAD (e.g., a combination VSO and CSO course) the QSS organization will issue approval letters and course approval certificates jointly on behalf of both MARAD and the Coast Guard.

Paperwork Reduction Act

The information collection for this voluntary program for approval of maritime security training courses was approved by the Office of Management and Budget on July 27, 2004, as MARAD's information collection #2133-0535, Elements of Request for Course Approval.

(Authority: Pub. L. 107-295)

By order of the Maritime Administrator.
Dated: February 2, 2005.
Joel C. Richard,
Secretary, Maritime Administration.

[FR Doc. 05-2320 Filed 2-7-05; 8:45 am]

BILLING CODE 4910-81-P